FEDERAL DEPOSIT INSURANCE CORPORATION

Notice of a Matter To Be Withdrawn From Consideration at an Agency Meeting and Notice of a Matter To Be Added to the Discussion Agenda

Pursuant to the provisions of the “Government in the Sunshine Act” (5 U.S.C. 552b), notice is hereby given that the following matter will be withdrawn from the “Discussion Agenda” at the Federal Deposit Insurance Corporation's Board of Directors open meeting scheduled to be held at 2 p.m. on Thursday, October 23, 2008:

Memorandum and resolution re: Minimum Capital Ratios; Capital Adequacy Guidelines; Capital Maintenance; Capital: Treatment of Perpetual Preferred Stock Issued To the United States Treasury under the Emergency Economic Stabilization Act of 2008.

In addition, the following matter will be added to the “Discussion Agenda:”

Memorandum and resolution re: Interim Rule Implementing the Temporary Liquidity Guarantee Program.

Dated: October 22, 2008.
Federal Deposit Insurance Corporation.
Robert E. Feldman,
Executive Secretary.

[FR Doc. E8-25545 Filed 10-27-08; 8:45 am]

BILLING CODE 6714-01-P